DEPARTMENT OF AGRICULTURE

Natural Resources Conservation Service

Intent to Prepare an Environmental Impact Statement for the Green River/Tusher Diversion Dam Rehabilitation Project, Emery/Grand County, UT

AGENCY: Natural Resources Conservation Service, USDA.

ACTION: Notice of Intent (NOI) to Prepare an Environmental Impact Statement.

SUMMARY: Pursuant to section 102(2)(c) of the National Environmental Policy Act (NEPA) of 1969, 42 U.S.C. 4321-4370d, as implemented by the Council of Environmental Quality regulations (40 CFR parts 1500-1508) and Natural Resources Conservation Service (NRCS) regulations that implement NEPA at 7 CFR part 650, the NRCS Utah State Office announces its intent to prepare an Environmental Impact Statement (EIS) for the Green River/Tusher Diversion Dam Rehabilitation project.

The purpose of this notice is to alert interested parties regarding the intent to prepare the EIS, to provide information on the nature of the proposed action and possible alternatives, and to invite public participation in the EIS process (including providing comments on the scope of the draft EIS, to announce that a public scoping meeting will be conducted, and to identify cooperating agency contacts). The EIS process will evaluate alternatives recommended for detailed study as a result of previous planning-level studies completed by NRCS and any additional (new) alternatives identified during scoping.

DATES: Written comments on the scope of the draft EIS, including the project's purpose and need, the alternatives to be considered, types of issues that should be addressed, associated research that should be considered, and the methodologies to be used in impact evaluations should be sent to NRCS starting on May 29, 2013 and ending on or before June 28, 2013 (5:00 p.m. MDT), to the address listed in the ADDRESSES section below. Comments submitted after June 28, 2013 will be considered to the extent practicable by the project team.

Two scoping meetings to present the project and develop the scope of the EIS will be held on Wednesday, June 12, 2013, via Tele-briefings. Participants should call (800) 346-7359 (entry code 840561) at least fifteen minutes prior to the meeting and an operator will connect you to the Tele-briefing. The first Tele-briefing will start at 2:00 p.m. (MDT) with a formal presentation and last until 2:45 p.m. An informal question and answer period will be held from 2:45 p.m. to 4:00 p.m. The second Tele-briefing will start at 6:00 p.m. (MDT) with a formal presentation and last until 6:45 p.m. An informal question and answer period will be held from 6:45 p.m. to 8:00 p.m. Presentation materials will be available on the project Web site (http://www.ut.nrcs.usda.gov/programs/EWP/index.html) for participants to download prior to the meeting.

Any individual who requires special assistance to participate in a scoping meeting, such as hard copy documentation of the meeting or other assistance, should contact Mr. Greg Allington, McMillen, LLC, (208) 342-4214 or greenriver@mcmillen-llc.com by Friday, May 24, 2013 to allow sufficient time for documents to be mailed or special arrangements to be made.

Scoping meeting presentation materials will be available on the NRCS Utah Emergency Watershed Protection Web site (http://www.ut.nrcs.usda.gov/programs/EWP/index.html) prior to the meeting. Electronic copies of the scoping materials may also be obtained from Mr. Greg Allington, McMillen, LLC, (208) 342-4214 or greenriver@mcmillen-llc.com. Representatives of Native American tribal governments and of federal, State, regional and local agencies that may have an interest in any aspect of the project will be invited to be cooperating agencies, as appropriate.

ADDRESSES: Formal scoping comments may be submitted via mail, email, fax, or oral telephone comment to:

• Contact: Mr. Greg Allington, McMillen, LLC,

• Mail: 1401 Shoreline Dr., Boise, Idaho 83702

• Email: greenriver@mcmillen-llc.com

• Fax: (208) 342-4216

• Telephone: (208) 342-4214.

Details of the public scoping meeting are given above under DATES. Comments should be submitted by close-of-business (5:00 p.m. MDT) June 28, 2013. Respondents should provide contact information if you wish to be included on the EIS mailing list. Please note that any respondent's entire scoping comment, including their personal contact information, may be made publicly available at any time during the EIS process.

FOR FURTHER INFORMATION CONTACT: Mr. Bronson Smart, State Conservation Engineer, Wallace F. Bennett Federal Building, 125 South State Street, Room 4010, Salt Lake City, Utah 84138-1100, or via email at bronson.smart@ut.usda.gov. Information may also be obtained from Mr. Greg Allington, McMillen, LLC, 1401 Shoreline Dr., Boise, Idaho 83702, or via email at greenriver@mcmillen-llc.com.

SUPPLEMENTARY INFORMATION: Background—The NRCS and Utah Department of Agriculture and Food (UDAF) are analyzing alternatives to rehabilitate the Green River/Tusher Diversion Dam due to damage from the late 2010 and early 2011 flood events. The dam was constructed in the early 1900's and has been modified over the years to maintain the structure. During the 2010/2011 flood events, flows in the Green River caused severe damage to the diversion structure compromising its structural integrity. If the dam fails, water delivery to two irrigation canals, a historic irrigation water wheel delivery system, and one hydropower plant would be eliminated.

The rehabilitation of the diversion dam would be funded through the NRCS Emergency Watershed Protection (EWP) program (CFR, Title 7: Agriculture, Part 624—Emergency Watershed Protection) via technical assistance and partial construction funding. A National Environmental Policy Act (NEPA) Programmatic EIS was prepared by NRCS for the overall EWP program in 2004; however, the rehabilitation of this diversion dam does not fit within the analysis parameters of the Programmatic EIS. Therefore, additional NEPA analysis is required for this project.

The project started out under the analysis of an Environmental Assessment (EA) during the first scoping period that was opened from October 30, 2012 to November 30, 2012. A public scoping meeting was held on November 15, 2012 at Green River City Hall in Green River, Utah. Through additional consultation with the Utah State Historic Preservation Office (SHPO) under Section 106 of the National Historic Preservation Act, it was determined that the diversion dam may be eligible for listing on the National Register of Historic Places. Any modifications to the dam may be considered an “adverse effect” which may make it ineligible for listing after rehabilitation. A wide range of alternatives is being considered for the project as listed in the Alternatives section below. Some of the impacts to the diversion dam from these alternatives may be considered “significant” to cultural resources and as a result, NRCS has decided to prepare an EIS for the project. The EIS will be prepared consistent with Title 390, The National Emergency Watershed Protection Program Manual.

The Upper Colorado Endangered Fish Recovery Program (Recovery Program) is proposing to fund and install a fish barrier in the west irrigation and hydropower plant canal to prevent Endangered Species Act (ESA) listed fish species from entering the canal and/or hydropower plant. As part of the dam repair, upstream and downstream fish passage may also be incorporated into the design. These fish protection and passage components are proposed for inclusion in the Green River diversion rehabilitation project to help reduce mortality of ESA listed fish species populations in the Green River.

Scoping Process—NRCS invites all interested individuals and organizations, public agencies, and Native American Tribes to comment on the scope of the EIS, including the project's purpose and need, alternatives proposed to date, new alternatives that should be considered, specific areas of study that might be needed, and evaluation methods to be used.

Background information including the project purpose and need and alternatives developed to date will be available prior to the scoping meeting on the NRCS Utah EWP Web site (http://www.ut.nrcs.usda.gov/programs/EWP/index.html). Electronic and hard copies of supporting documentation are also available from Mr. Greg Allington, McMillen, LLC, (208) 342-4214 or greg.allington@mcmillen-llc.com.

Once the scope of the EIS is confirmed upon the close of scoping, NRCS will begin preparation of the draft EIS. A summary of comments received during the scoping period will be compiled in a scoping report which will be available on the NRCS Utah EWP Web site.

Project Study Area and Environmental Setting—The proposed project is located approximately 6.6 miles north of the city of Green River in Emery/Grand Counties, Utah. The project study area includes land that is unincorporated on both sides of the Green River. The primary study area includes the diversion dam where rehabilitation activities would occur. Secondary study areas include areas required for alternatives of the project as described in the Alternatives section below such as the powerhouse raceway, irrigation canal on the east side of the diversion dam, construction staging areas on both sides of the river, and potential impacts to the river and riparian area upstream of the diversion dam.

The environmental setting for the project area is primarily located in a riverine environment surrounded by a relatively narrow riparian plant community adjacent to the river. Beyond the riparian community are agricultural fields on the east side of the diversion dam and BLM land on the west side of the diversion dam that is primarily comprised of desert shrubs and grasses.

Environmental resources consist of the natural and man-made environment. Preliminary resource concerns associated with the rehabilitation of the diversion dam may include both beneficial and negative impacts to water quality and supply, fish, threatened and endangered species, cultural, recreation, aesthetics, and public health and safety.

Alternatives—NRCS is analyzing the following conceptual alternatives to rehabilitate the diversion dam:

• Repair Existing Diversion Dam: Repair the existing diversion to safely pass flood events.

• Replace Existing Diversion Dam: Demolish the existing diversion dam and install a new dam in the same location.

• Replace Diversion Dam Downstream: Demolish the existing diversion dam and install a new diversion dam downstream.

• Replace Diversion Dam Upstream: Demolish the existing diversion dam and install a new diversion dam upstream.

• Diversion Decommissioning: Completely remove the diversion dam from the river and stabilize the diversion site. The existing water rights at the dam would be supplemented via pumping out of the river or other options to provide water to the water rights holders.

• Fish Passage Upstream/Downstream: Construct a passage system(s) on the dam to allow safe upstream and downstream passage of fish over the diversion dam.

• Electric Fish Barrier: Install an electric fish barrier to prevent fish from swimming into the powerhouse and irrigation canal on the west side of the diversion dam.

• Fish Barrier: Install a fish barrier to prevent fish from swimming into irrigation canal on the east side of the diversion dam.

• Boat Passage Upstream/Downstream: Construct a passage system(s) on the dam to allow safe downstream passage of boats past the diversion dam.

NRCS will consider any viable alternatives brought forward during scoping if it is substantially different from the alternatives described above. NRCS will also study a No-Action alternative which would consist of no Federal money used for the rehabilitation of the diversion dam.

Cooperating Agencies—Federal, state, and local agencies that may be interested in or affected by the project may request or be requested by NRCS to become a cooperating agency in the development of the EIS.

Signed this 24th day of May, 2013, in Salt Lake City, Utah.
David C Brown,
Utah State Conservationist, Natural Resources Conservation Service.

[FR Doc. 2013-13062 Filed 5-31-13; 8:45 am]

BILLING CODE 3410-16-P